DEPARTMENT OF TRANSPORTATION

Federal Aviation Administration

14 CFR Part 71

[Docket No. FAA-2003-15409; Airspace Docket No. 03-ASO-8]

Amendment of Class D and E Airspace; Montgomery, AL

AGENCY: Federal Aviation Administration (FAA), DOT.

ACTION: Final rule.

SUMMARY: This action amends Class D, E2, and E5 airspace at Montgomery, AL. As a result of an evaluation, it has been determined a modification should be made to the Montgomery, AL, Class D, E2, and E5 airspace areas to contain the VHF Omnidirectional Range (VOR)-A, Standard Instrument Approach Procedure (SIAP) to Montgomery Regional Airport—Dannelly Field. Additional surface area airspace and controlled airspace extending upward from 700 feet Above Ground Level (AGL) is needed to contain the SIAP.

EFFECTIVE DATE: 0901 UTC, October 30, 2003.

FOR FURTHER INFORMATION CONTACT: Walter R. Cochran, Manager, Airspace Branch, Air Traffic Division, Federal Aviation Administration, P.O. Box 20636, Atlanta, Georgia 30320; telephone (404) 305-5586.

SUPPLEMENTARY INFORMATION:

History

On June 30, 2003, the FAA proposed to amend part 71 of the Federal Aviation Regulations (14 CFR part 71) by amending Class D, E2, and E5 airspace at Montgomery, AL, (68 FR 38651). This action provides adequate Class D, E2, and E5 airspace for IFR operations at Montgomery Regional Airport—Dannelly Field. Designations for Class D airspace areas extending upward from the surface of the earth and Class E airspace designations for airspace designated as surface areas and airspace areas extending upward from 700 feet or more above the surface of the earth are published in Paragraphs 5000, 6002, and 6005 respectively, of FAA Order 7400.9K, dated August 30, 2002, and effective September 16, 2002, which is incorporated by reference in 14 CFR part 71.1. The Class D and E designations listed in this document will be published subsequently in the Order.

Interested parties were invited to participate in this rulemaking proceeding by submitting written comments on the proposal to the FAA. No comments objecting to the proposal were received.

The Rule

This amendment to part 71 of the Federal Aviation Regulations (14 CFR part 71) amends Class D, E2, and E5 airspace at Montgomery, AL.

The FAA has determined that this proposed regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (Air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9K, Airspace Designations and Reporting Points, dated August 30, 2002, and effective September 16, 2002, is amended as follows:

Paragraph 5000 Class D airspace.

* * * * *

ASO AL D Montgomery, AL [REVISED]

Montgomery Regional Airport—Dannelly Field, AL

(Lat. 32°18′02″ N, long. 86°23′38″ W)

Montgomery VORTAC

(Lat. 32°13′20″ N, long. 86°19′11″ W)

That airspace extending upward from the surface to and including 2,700 feet MSL within a 5-mile radius of Montgomery Regional Airport—Dannelly Field, and within 1 mile each side of the Montgomery VORTAC 318° radial extending from the 5-mile radius to 6 miles southeast of the airport; excluding that airspace north of a line 2.5 miles north of and parallel to RWY 10-28 at Montgomery Regional Airport—Dannelly Field and northeast of a line along the Montgomery VORTAC 320° radial. This Class D airspace area is effective during the specific days and times established in advance by a Notice to Airmen. The effective date and time will thereafter be continuously published in the Airport/Facility Directory.

* * * * *

Paragraph 6002 Class E airspace designated as surface areas

* * * * *

ASO AL E2 Montgomery, AL [REVISED]

Montgomery Regional Airport—Dannelly Field, AL

(Lat. 32°18′02″ N, long. 86°23′38″ W)

Montgomery VORTAC

(Lat. 32°13′20″ N, long. 86°19′11″ W)

Within a 5-mile radius of Montgomery Regional Airport—Dannelly Field, and within 1 mile each side of the Montgomery VORTAC 318° radial extending from the 5-mile radius to 6 miles southeast of the airport; excluding that airspace north of a line 2.5 miles north of and parallel to RWY 10-28 at Montgomery Regional Airport—Dannelly Field and northeast of a line along the Montgomery VORTAC 320° radial. This Class E airspace area is effective during the specific days and times established in advance by a Notice to Airmen. The effective date and time will thereafter be continuously published in the Airport/Facility Directory.

* * * * *

Paragraph 6005 Class E airspace designated as surface areas.

* * * * *

ASO AL E5 Montgomery, AL [REVISED]

Montgomery Regional Airport—Dannelly Field, AL

(Lat 32°18′02″ N, long. 86°23′38″ W)

Montgomery VORTAC

(Lat 32°13′20″ N, long. 86°19′11″ W)

Maxwell AFB

(Lat 32°22′49″ N, long. 86°21′54″ W)

Autauga County Airport

(Lat 32°26′20″ N, long. 86°30′38″ W)

Wetumpka Municipal Airport

(Lat 32°31′46″ N, long. 86°19′42″ W)

That airspace extending upward from 700 feet above the surface within a 7-mile radius of Montgomery Regional Airport—Dannelly Field, and within 4 miles east and 8 miles west of the Montgomery VORTAC 138° radial extending from the 7-mile radius to 16 Miles southeast of the Montgomery VORTAC, and within a 7-mile radius of Maxwell AFB and within a 7-mile radius of Autauga County Airport and within a 6.3-mile radius of Wetumpka Municipal Airport.

* * * * *

Issued in College Park, Georgia, on August 13, 2003.
Walter R. Cochran,
Acting Manager, Air Traffic Division, Southern Region.

[FR Doc. 03-21323 Filed 8-19-03; 8:45 am]

BILLING CODE 4910-13-M